ENVIRONMENTAL PROTECTION AGENCY

[ER-FRL-6639-7]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 1, 2003 (68 FR 16511).

Draft EISs

ERP No. D-AFS-F65037-MI Rating LO, Interior Wetlands Project, Timber Harvest, White Pine Trees Pruning, Growth System Adjustment, Wildlife Openings Creation and Maintenance and Transportation System Improvements, Hiawatha National Forest, Eastside Administrative Unit, Chippewa County, MI.

Summary: EPA did not identify any potential environmental impacts requiring substantive changes to the 2 main project alternatives. EPA believes that A5 would better accomplish old growth stand improvement and road conversion to forests and wetlands.

ERP No. D-AFS-J65371-WY Rating EC2, Medicine Bow National Forest Revised Draft Land and Resource Management Plan, Implementation, Albany, Carbon and Laramie Counties, WY.

Summary: EPA expressed environmental concerns that without specifically outlining the baseline by which future projects are tiered from this Plan, potential impacts to ecosystem processes, water and habitat quality may occur.

ERP No. D-AFS-K61158-CA Rating EC2, Silver Pearl Land Exchange Project, Proposal to Exchange 2,153 Acres of National Forest System (NFS) Land for up to 3,963 Acres of Sierra Pacific Industries (SPI) Land within the boundary of Eldorado National Forest, Eldorado and Placer Counties, CA.

Summary: EPA expressed environmental concerns and requested additional information regarding impacts to threatened and endangered species and Forest Service sensitive species. EPA also requested additional information on cumulative impacts.

ERP No. D-SFW-K99032-CA Rating EC2, Western Riverside County Multiple Species Habitat Conservation Plan (MSHCP), Implementation, Incidental Take Permits Issuance, Riverside and Orange County, CA.

Summary: EPA raised environmental concerns that information from other regional plans has not been fully integrated with the analysis and conclusions of the MSHCP. Other EPA concerns are the assumptions regarding the level of species protection provided by Public/Quasi-Public lands, the scientific basis of MSHCP assumptions and conclusions, enforcement, and consultation with and evaluation of potential impacts on Indian Tribes. EPA also recommended the Service provide future opportunities for public and agency input, and consult with Indian Tribes on a government-to-government basis.

ERP No. DS-COE-C36031-NY Rating LO, Irondequoit Creek at Panorama Valley Flood Damage Reduction Project, New Information concerning Resumption and Evaluation of a Flood Damage Reduction Project, Town of Penfield, Monroe County, NY.

Summary: EPA has no objections to the implementation of the proposed project.

ERP No. DS-DOE-L08055-WA Rating EC2, Kangley—Echo Lake Transmission Line Project, New 500 Kilovolt (kV) Transmission Line Construction, Updated Information concerning Re-evaluating Alternatives not Analyzed, U.S. Army COE Section 10 and 404 Permits Issuance, King County, WA.

Summary: EPA expressed environmental concerns with the lack of clearly defined mitigation measures to protect drinking water sources and ensure the integrity of the City of Seattle's Habitat Conservation Plan. EPA recommended that the EIS not be finalized until such mitigation has been determined. EPA also recommended that the final EIS more clearly identify the significance of predicted effects of the project.

Final EISs

ERP No. F-AFS-E65053-NCCroatan National Forest Revised Land and Resource Management Plan (1986), Implementation, Carteret Craven and Jones Counties, NC.

Summary: The final EIS is responsive to issues raised in the draft EIS and EPA has no objections to the proposed action.

ERP No. F-AFS-J82016-MTBitterroot National Forest Noxious Weed Treatment Project, Ground and Aerial Herbicides Application, Mechanical, Biological and Cultural Weed Treatment and Public Awareness Measures, Implementation, Stevensville Ranger District, Bitterroot National Forest, Ravalli County, MT.

Summary: EPA's review has not identified potential environmental impacts requiring substantive changes to the proposal.

ERP No. F-AFS-L65403-WAQuartzite Watershed Management Project, Watershed Management Activities including Vegetation Management, Riparian/Wetland Management and Road Management, Colville National Forest, Thomason Sherwood-Cottonwood Creek, Three Rivers Ranger District, Stevens County, WA.

Summary: No formal comment letter was sent to the preparing agency.

ERP No. F-DOE-L08059-WASchultz-Hanford Transmission Line Project, New 500 kilovolt (kV) Transmission Line Construction, Central Washington north of Hanford connecting to an existing line at the Schultz Substation, Kittitas, Yakima, Grant and Benton Counties, WA.

Summary: No formal comment letter was sent to the preparing agency.

Dated: April 22, 2003.
Joseph C. Montgomery,
Director, NEPA Compliance Division, Office of Federal Activities.

[FR Doc. 03-10273 Filed 4-24-03; 8:45 am]

BILLING CODE 8010-01-P